OFFICE OF PERSONNEL MANAGEMENT

Senior Executive Service—Performance Review Board

AGENCY: Office of Personnel Management.

ACTION: Notice.

SUMMARY: Notice is hereby given of the appointment of members of the OPM Performance Review Board.

FOR FURTHER INFORMATION CONTACT: Carmen Garcia, Employee Services—OPM Human Resources, Office of Personnel Management, 1900 E Street NW., Washington, DC 20415, (202) 606-1048.

SUPPLEMENTARY INFORMATION: Section 4314(c)(1) through (5) of Title 5, U.S.C., requires each agency to establish, in accordance with regulations prescribed by the Office of Personnel Management, one or more SES performance review boards. The board reviews and evaluates the initial appraisal of a senior executive's performance by the supervisor, and considers recommendations to the appointing authority regarding the performance of the senior executive.

Office of Personnel Management.
Beth F. Cobert,
Acting Director.

The following have been designated as members of the Performance Review Board of the U.S. Office of Personnel Management:

Kiran Ahuja, Chief of Staff

Kathleen McGettigan, Chief Management Officer

Michael Grant, White House Liaison

Dennis Coleman, Chief Financial Officer

Jonathan Foley, Director—Office of Planning and Policy Analysis

Kenneth Zawodny, Associate Director for Retirement Services

Joseph Kennedy, Associate Director for Human Resources Solutions

Mark Reinhold, Associate Director for Employee Services and Chief Human Capital Officer

Andrea Bright, Deputy Associate Director for Human Resources—Executive Secretariat

[FR Doc. 2016-24789 Filed 10-12-16; 8:45 am]

BILLING CODE 6325-45-P